COMMODITY FUTURES TRADING COMMISSION

Sunshine Act Meetings

The following notice of meeting is published pursuant to the provisions of the Government in the Sunshine Act, Public Law 94-409, 5 U.S.C. 552b.

Agency Holding the Meeting: Commodity Futures Trading Commission.

Time and Date: 1 p.m., January 14, 2010.

Place: Three Lafayette Center, 1155 21st St., NW., Washington, DC, Lobby Level Hearing Room (Room 1000).

Status: Open.

Matters to be Considered: Issuance of a proposed rule on energy position limits and hedge exemptions on regulated futures exchanges, derivatives transaction execution facilities and electronic trading facilities.

Contact Person for More Information: David A. Stawick, Secretary of the Commission, 202-418-5071.

David A. Stawick,
Secretary of the Commission.

[FR Doc. 2010-450 Filed 1-8-10; 4:15 pm]

BILLING CODE 6351-01-P